DEPARTMENT OF TRANSPORTATION

Federal Aviation Administration

14 CFR Part 39

[Docket No. FAA-2006-26071; Directorate Identifier 2006-CE-51-AD]

RIN 2120-AA64

Airworthiness Directives; Mooney Airplane Company, Inc., (Mooney) Models M20M and M20R Airplanes

AGENCY: Federal Aviation Administration (FAA), Department of Transportation (DOT).

ACTION: Notice of proposed rulemaking (NPRM).

SUMMARY: We propose to adopt a new airworthiness directive (AD) for certain Mooney Airplane Company, Inc. Models M20M and M20R airplanes. This proposed AD would require you to retorque the upper left and upper right engine mounting hardware as an interim action. This proposed AD would also require you to remove the upper left and upper right engine mount attaching hardware, cut out and remove the upholstery and insulation between the fuselage tubular frame and the firewall, and replace the upper left and upper right engine mount attaching hardware with the new parts kit. This proposed AD results from failure of the engine mount attaching hardware to maintain torque as a result of firewall insulation and upholstery being compressed between the fuselage tubular frame and the firewall at the upper left and upper right engine mount attach points. We are proposing this AD to prevent the upper right and upper left engine mounting hardware from losing torque, which could result in a reduction in engine mount load carrying capability and could lead to engine mount failure.

DATES: We must receive comments on this proposed AD by December 7, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

For service information identified in this proposed AD contact Mooney Airplane Company, Inc., 165 Al Mooney Road North, Kerrville, TX 78028; telephone (830) 896-6000.

FOR FURTHER INFORMATION CONTACT: Andrew McAnaul, Aerospace Engineer, ASW-150 (c/o MIDO-43), 10100 Reunion Place, Suite 650, San Antonio, Texas 78216; telephone: (210) 308-3365; fax: (210) 308-3370.

SUPPLEMENTARY INFORMATION:

Comments Invited

We invite you to send any written relevant data, views, or arguments regarding this proposed AD. Send your comments to an address listed under the ADDRESSES section. Include the docket number, “FAA-2006-26071; Directorate Identifier 2006-CE-51-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We received information from Mooney Airplane Company, Inc., that during the manufacturing process of Models M20M Serial Numbers 27-0317 through 27-0355 and Models M20R Serial Numbers 29-0290 through 29-0448, the firewall insulation and upholstery covering attached to the interior surface of the firewall, located behind the instrument panel, may be compressed between the fuselage tubular frame and the stainless steel firewall at the upper left and upper right engine mount points. This may prevent the engine mount attaching hardware from maintaining torque to engineering design.

This condition, if not corrected, could result in failure to maintain proper fastener torque, leading to reduced engine mount load carrying capability and possible engine mount failure.

Relevant Service Information

We have reviewed Mooney Airplane Company, Inc. Service Bulletin M20-292, dated September 22, 2006. The service information describes procedures for:

• Retorquing the upper left and upper right engine mounting hardware;

• Removing the upper left and upper right engine mount attaching hardware;

• Cutting out and removing the upholstery and insulation between the fuselage tubular frame and the firewall; and

• Replacing the upper left and upper right engine mount attaching hardware with the new parts kit.

FAA's Determination and Requirements of the Proposed AD

We are proposing this AD because we evaluated all information and determined the unsafe condition described previously is likely to exist or develop on other products of the same type design. This proposed AD would require you to retorque the upper left and upper right engine mounting hardware as an interim action. This proposed AD would also require you to remove the upper left and upper right engine mount attaching hardware, cut out and remove the upholstery and insulation between the fuselage tubular frame and the firewall, and replace the upper left and upper right engine mount attaching hardware with the new parts kit.

Costs of Compliance

We estimate that this proposed AD would affect 198 airplanes in the U.S. registry.

We estimate the following costs for the proposed procedures:

Labor cost | Parts cost | Total cost per airplane | Total cost on U.S. operators
Retorquing of the upper left and upper right engine mounting hardware: | Not Applicable | $40 | 198 × $40 = $7,920.
.5 work-hours × $80 per hour = $40.
Removing insulation and upholstery material at the engine mount upper right and upper left attaching points, and installing engine mount attaching hardware with the new parts kit: | $20 | 160 | 198 × $180 = $35,640.
2 work-hours × $80 per hour = $160.

Note: Mooney will provide warranty credit for parts and labor as specified in the Mooney Airplane Company, Inc. Service Bulletin M20-292, dated September 22, 2006.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Mooney Airplane Company, Inc.: Docket No. FAA-2006-26071; Directorate Identifier 2006-CE-51-AD.

Comments Due Date

(a) We must receive comments on this airworthiness directive (AD) action by December 7, 2006.

Affected ADs

(b) None.

Applicability

(c) This AD applies to Model M20M airplanes, serial numbers 27-0317 through 27-0355 and Model M20R airplanes, serial numbers 29-0290 through 29-0448, that are certificated in any category.

Unsafe Condition

(d) This AD results from failure of the engine mount attaching hardware to maintain torque as a result of firewall insulation and upholstery being compressed between the fuselage tubular frame and the firewall at the upper left and upper right engine mount attach points. We are issuing this AD to prevent the upper right and upper left engine mounting hardware from losing torque, which could lead to a reduction in engine mount load carrying capability and could result in engine mount failure.

Compliance

(e) To address this problem, you must do the following, unless already done:

Actions | Compliance | Procedures
(1) Locate and retorque the upper left and upper right engine mount attaching hardware | Within the next 25 hours time-in-service (TIS) after the effective date of this AD | Follow Mooney Airplane Company, Inc. Service Bulletin M20-292 dated September 22, 2006.
(2) Replace the old engine mount attaching hardware by doing the following: (i) Remove and discard the upper left and upper right engine mount attaching hardware; | Within the next 100 hours TIS after the effective date of this AD | Follow Mooney Airplane Company, Inc. Service Bulletin M20-292 dated September 22, 2006.
(ii) Cut out and remove the upholstery and insulation material to allow full metal-to-metal contact of the fuselage tubular frame to the firewall; and
(iii) Install the new upper left and upper right engine mount attaching hardware Parts Kit.
(3) If you do the actions of paragraph (e)(2) of this AD before the compliance time specified for the action in paragraph (e)(1) of this AD, it terminates the requirement for the action in paragraph (e)(1) of this AD | As of the effective date of this AD | Follow Mooney Airplane Company, Inc. Service Bulletin M20-292 dated September 22, 2006.

Alternative Methods of Compliance (AMOCs)

(f) The Manager, Fort Worth Airplane Certification Office, FAA,ATTN: Andrew McAnaul, Aerospace Engineer, ASW-150 (c/o MIDO-43), 10100 Reunion Place, Suite 650, San Antonio, Texas 78216; telephone: (210) 308-3365; fax: (210) 308-3370, has the authority to approve AMOCs for this AD, if requested using the procedures found in 14 CFR 39.19.

Related Information

(g) To get copies of the service information referenced in this AD, contact the Mooney Airplane Company, Inc., 165 Al Mooney Road North, Kerrville, TX 78028, telephone: 830-896-6000. To view the AD docket, go to the Docket Management Facility; U.S. Department of Transportation, 400 Seventh Street, SW., Nassif Building, Room PL-401, Washington, DC, or on the Internet at http://dms.dot.gov.

The docket number is Docket No. FAA-2006-26071; Directorate Identifier 2006-CE-51-AD.

Issued in Kansas City, Missouri, on October 30, 2006.
Kim Smith,
Manager, Small Airplane Directorate, Aircraft Certification Service.

[FR Doc. E6-18724 Filed 11-6-06; 8:45 am]

BILLING CODE 4910-13-P